RAILROAD RETIREMENT BOARD

Proposed Data Collection Available for Public Comment and Recommendations

SUMMARY: In accordance with the requirement of Section 3506(c)(2)(A) of the Paperwork Reduction Act of l995 which provides opportunity for public comment on new or revised data collections, the Railroad Retirement Board will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of information collection:

RUIA Claims Notification and Verification System: OMB 3220-0171. Section 5(b) of the Railroad Unemployment Insurance Act (RUIA), requires that effective January 1, 1990, “when a claim for benefits is filed with the Railroad Retirement Board (RRB), the RRB shall provide notice of such claim to the claimant's base year employer or employers and afford such employer or employers an opportunity to submit information relevant to the claim before making an initial determination on the claim. When the RRB initially determines to pay benefits to a claimant under the RUIA, the RRB shall provide notice of such determination to the claimant's base-year employer or employers.”

The purpose of the RUIA Claims Notification System is to provide to unemployment and sickness claimant's base year employer or current employer, notice of each application and claim for benefits under the RUIA and to provide an opportunity for employers to convey information relevant to the proper adjudication of the claim. Railroad employers receive notice of applications and claims by one of three options. The first option, Form Letter ID-4K, is a computer generated form letter notice of all unemployment applications, unemployment claims and sickness claims received from employees of a railroad company on a particular day. Form Letters ID-4K are mailed on a daily basis to officials designated by railroad employers. The second option is an Electronic Data Interchange (EDI) version of the Form Letter ID-4K notice. EDI notices of applications are transmitted to participating railroads on a daily basis, generally on the same day that applications are received. The third option, an Internet equivalent ID-4K, provides the required notification by the RRB through the RRB's Internet-based Employer Reporting System (ERS). Completion is voluntary.

Railroad employers can respond to RRB notices of applications and claims manually by mailing a completed ID-4K back to the RRB or electronically via EDI or the ERS. No changes are being proposed to any of the ID-4K options.

Upon receipt of notice that the RRB has allowed a claim either in whole, or in part, the claimant's base-year employer(s) may request a review of the determination to pay benefits, if the employers believe the determination is incorrect. The RRB utilizes Form Letter ID-4DE, Notice of RUIA Claim Determinations, an Electronic Data Interchange (EDI) version of the Form Letter ID-4K notice and an Internet equivalent ID-4E to notify base-year employers that the RRB has made a determination to pay benefits and to allow them to request the RRB to review the determination. Form Letter ID-4E is mailed on a daily basis, generally on the same day that the claims are approved for payment. The EDI and Internet-equivalent ID-4Es are also sent to participating railroads on a daily basis, generally on the same day that the claims are approved for payment. Railroad employers can then request that the RRB review the determination either by filing a completed ID-4E by mail, EDI, or via the Internet. No changes are being proposed to any of the ID-4E options. Completion is voluntary.

The estimated annual respondent burden is as follows:

Estimate of Annual Respondent Burden
Form number | Annual responses | Time (min) | Burden hours
ID-4K (Manual) | 1,250 | 2 | 42
ID-4K (EDI) | 14,850 | ** | 210
ID-4K (Internet) | 2,500 | 2 | 83
ID-4E (Manual) | 75 | 2 | 3
ID-4E (Internet) | 25 | 2 | 1
Total | 18,700 |  | 339
** The burden for the 5 participating employers who transmit EDI responses is calculated at 10 minutes each per day, 251 workdays a year or 210 total hours of burden.

Additional Information or Comments: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Charles Mierzwa,
Clearance Officer.

[FR Doc. E8-17068 Filed 7-24-08; 8:45 am]

BILLING CODE 7905-01-P